FEDERAL COMMUNICATIONS COMMISSION

47 CFR Parts 1 and 2

[ET Docket Nos. 03-137 and 13-84, FCC 19-126, FRS 16453]

Human Exposure to Radiofrequency Electromagnetic Fields and Reassessment of FCC Radiofrequency Exposure Limits and Policies

AGENCY: Federal Communications Commission.

ACTION: Final rule; correction; delay of effective date.

SUMMARY: In this document, the Federal Communications Commission delays the effective date of some of the amendments published in a final rule on April 1, 2020, with an effective date of June 1, 2020. The Commission did not intend certain amendments to take effect until after approval by the Office of Management and Budget under the Paperwork Reduction Act.

DATES: Effective May 29, 2020, the effective date of the amendments to 47 CFR 1.1307, 2.1091, 2.1093 (amendatory instructions 2, 7, and 8), published at 85 FR 18131, April 1, 2020, is delayed indefinitely. We will publish a document in the Federal Register announcing the effective date.

FOR FURTHER INFORMATION CONTACT: Martin Doczkat, email: martin.doczkat@fcc.gov; the Commission's RF Safety Program, rfsafety@fcc.gov; or call the Office of Engineering and Technology at (202) 418-2470.

SUPPLEMENTARY INFORMATION: In the Commission's Second Report and Order, Memorandum Opinion and Order, and Termination of Notice of Inquiry, ET Docket No. 03-137, ET Docket No. 13-84, FCC 19-126, adopted November 27, 2019, and released December 4, 2019, the Commission amended its rules related to the methods that may be used for determining and achieving compliance with the Commission's existing limits on human exposure to radiofrequency (RF) electromagnetic fields. The amended rules are intended to provide more efficient, practical, and consistent RF exposure evaluation procedures and mitigation measures to help ensure compliance with the existing RF exposure limits. The summary of the Second Report and Order published at 85 FR 18131, April 1, 2020, incorrectly stated that the entire item would become effective sixty days after publication, June 1, 2020. In fact, the amendments to 47 CFR 1.1307, 2.1091, and 2.1093 require approval by the Office of Management and Budget under the Paperwork Reduction Act. This document indefinitely delays the effective date of 47 CFR 1.1307, 2.1091, and 2.1093, while the Commission seeks OMB approval.

Federal Communications Commission.
Marlene Dortch,
Secretary, Office of the Secretary.

[FR Doc. 2020-11969 Filed 5-29-20; 4:15 pm]

BILLING CODE 6712-01-P